FEDERAL COMMUNICATIONS COMMISSION

[Report No. 2593]

Petitions for Reconsideration of Action in Rulemaking Proceedings

February 3, 2003.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by February 27, 2003. See Section 1.4(b)(1) of the Commission's rules (47 CFR 1.4(b)(1)). Replies to an opposition must be filed within 10 days after the time for filing oppositions has expired.

Subject:

Federal-State Joint Board on Universal Service (CC Docket No. 96-45)

1998 Biennial Regulatory Review—Streamlined Contributor Reporting Requirements Associated with Administration of Telecommunications Relay Service, North American Numbering Plan, Local Number Portability, and Universal Service Support Mechanisms (CC Docket No. 98-171)

Telecommunications Services for Individuals with Hearing and Speech Disabilities, and the Americans with Disabilities Act of 1990 (CC Docket No. 90-571)

Administration of the North American Numbering Plan and North American Numbering Plan Cost Recovery Contribution Plan Cost Recovery Contribution Factor and Fund Size (CC Docket No. 92-237, NSD File No. L-00-72)

Number Resource Optimization (CC Docket No. 99-200)

Telephone Number Portability (CC Docket No. 95-116)

Truth-in-Billing and Billing Format (CC Docket No. 98-170)

Number of Petitions Filed: 8.

Marlene H. Dortch,
Secretary.

[FR Doc. 03-3313 Filed 2-10-03; 8:45 am]

BILLING CODE 6712-01-M